DEPARTMENT OF AGRICULTURE

Food and Nutrition Service

Food Distribution Program on Indian Reservations Self-Determination Demonstration Project: Solicitation of Proposals for Additional Tribal Organizations To Participate

AGENCY: Food and Nutrition Service (FNS), USDA.

ACTION: Notice.

SUMMARY: The Department of Agriculture (USDA) Food and Nutrition Service (FNS) is soliciting proposals from eligible Tribal Organizations to participate in a demonstration project to purchase agricultural commodities for the Food Distribution Program on Indian Reservations (FDPIR). This demonstration project is authorized under the Agriculture Improvement Act of 2018. Response to this solicitation is available to Tribal Organizations that administer FDPIR and have not previously been awarded a contract. Tribal Organizations will be selected on a competitive basis and funding will be awarded through a self-determination contract. This is the second solicitation of proposals for participation in the demonstration project. USDA issued a first solicitation of proposals and awarded a first round of self-determination contracts for participation in the demonstration project in FY 2021.

DATES: Proposals will be accepted until 11:59 p.m. ET on January 31, 2023. See Addresses section for submission details.

ADDRESSES: Email proposals to FDPIR-RC@usda.gov with subject line “FDPIR Demonstration Project.” Proposals received and date-stamped after the time listed in the DATES section of this notice will not be considered. FNS will accept proposals at any time before the deadline and will send a notification of receipt to the return email address on the proposal package, along with a determination of whether the proposal is complete.

FOR FURTHER INFORMATION CONTACT: Barbara Lopez (barbara.lopez@usda.gov) and Rachel Schoenian (rachel.schoenian@usda.gov), Supplemental Nutrition and Safety Programs, Food and Nutrition Service, U.S. Department of Agriculture, 1320 Braddock Place, Alexandria, Virginia 22314, 703-305-2465 or email FDPIR-RC@usda.gov.

SUPPLEMENTARY INFORMATION:

I. Program Background

II. 2018 Farm Bill: Demonstration Project for Tribal Organizations and Round One Self- Determination Contract Awards

III. Available Funding

IV. Eligibility and Criteria for Round Two Participation

A. Eligibility of Tribal Organization

B. Agricultural Commodity Criteria

V. Review, Selection and Evaluation for Round Two Participation

A. Review and Selection Process

B. Evaluation Criteria

VI. Proposal Template for Round Two Participation

I. Program Background

The Food Distribution Program on Indian Reservations (FDPIR) is administered by the Food and Nutrition Service (FNS) of the USDA and provides a food package of 100 percent domestically grown foods to income-eligible households living on Indian reservations and to American Indian households residing in approved areas near reservations or in Oklahoma. FDPIR was authorized under the Food Stamp Act of 1977 (Pub. L. 95-113), which was later renamed the Food and Nutrition Act of 2008 (FNA). FDPIR is currently administered by 105 Tribal Organizations and three State agencies and provides benefits and nutrition education services to approximately 279 Federally recognized Tribes across the United States. In FY 2021, the program served approximately 48,000 individuals on an average monthly basis. Each month, participating FDPIR households receive a defined food package to help maintain a nutritionally balanced diet. The food package is based on FNS guidance and includes input from the FDPIR Food Package Review Work Group, a member-based work group made up of representatives from the Indian Tribal Organizations and State agencies that administer FDPIR across all regions nationally, Federal, and Tribal health professionals, and FNS staff that work directly with the program. FDPIR households may select from over 100 domestically grown and produced foods, including fresh fruits and vegetables, a variety of frozen and nonperishable items, and a selection of traditional foods.

Under national program operations, FDPIR administering agencies order foods from USDA (i.e., USDA Foods), and the foods are purchased and shipped to Tribal Organizations and State agencies that administer FDPIR. These administering agencies store and distribute the foods, determine applicant eligibility, and provide nutrition education to participants. USDA provides the administering agencies with funds for program administrative costs.

II. 2018 Farm Bill: Demonstration Project for Tribal Organizations and Round One Self-Determination Contracts

The USDA Foods provided in the FDPIR food package under the national program are procured by USDA's Agricultural Marketing Service (AMS) in collaboration with FNS. USDA purchases and ships the USDA Foods to Tribal Organizations and State agencies that administer FDPIR. Tribal Organizations and State agencies store and distribute the foods, determine applicant eligibility, and provide nutrition education to recipients. Section 4003(b) of the Agriculture Improvement Act of 2018 (Pub. L. 115-334, the 2018 Farm Bill) establishes a demonstration project for one or more Tribal Organization(s) within FDPIR to enter into self-determination contracts for them to purchase foods for their Indian Tribe, instead of USDA, for inclusion in the FDPIR food package. Section 4003(b)(1)(E) of the 2018 Farm Bill defines self-determination contract as: The term “self-determination contract” has the meaning given the term in section 4 of the Indian Self-Determination and Education Assistance Act (25 U.S.C. 5304). Under section 4003(b)(2), the 2018 Farm Bill further states that the “Secretary shall establish a demonstration project under which 1 or more tribal organizations may enter into self-determination contracts to purchase agricultural commodities under the food distribution program for the Indian reservation of that tribal organization.” Given the 2018 Farm Bill's specific reference to 25 U.S.C. 5304 and self-determination contracts only, Tribal Organizations selected to participate in this demonstration project would need to enter into a self-determination contract with FNS. No other type of funding agreement will be allowed.

Self-determination contracts, as defined under section 4 of the Indian Self-Determination and Education Assistance Act (ISDEAA), Public Law 93-638 (25 U.S.C. 5304), as amended, allow a Tribal Organization to have more control over the governmental affairs of their Organizations, fostering further self-governance. The 2018 Farm Bill provision under section 4003(b) supports Tribal Organization self-governance by specifically allowing Tribal Organizations to procure FDPIR food instead of USDA. This provision also allows FNS to familiarize itself with these types of contracts and to assess how FDPIR could operate under a different food distribution program model.

The 2018 Farm Bill outlined the following criteria for Tribal Organization participation and procurement of agricultural commodities:

Selection of Tribal Organization (section 4003(b)(3)(B) of the 2018 Farm Bill): The Secretary of USDA shall select for participation in the demonstration project Tribal Organizations that: are successfully administering FDPIR under section 4(b)(2)(B) of the Food and Nutrition Act of 2008 (7 U.S.C. 2013(b)(2)(B)); have the capacity to purchase agricultural commodities for their FDPIR program; and meet any other criteria determined by the Secretary of USDA after consultation with the Secretary of the Interior and Indian Tribes to participate in the demonstration project.

Procurement of Agricultural Commodities (section 4003(b)(4) of the 2018 Farm Bill): Tribal Organizations selected to participate in the demonstration project shall only purchase agricultural commodities that: are domestically produced; will supplant, not supplement, the type of agricultural commodities in the existing FDPIR food package; are of similar or higher nutritional value as the food(s) it is replacing in the existing food package; and meet any other criteria as determined by the Secretary of USDA.

During fiscal years (FY) 2019, 2020 and 2021, FNS engaged in six Tribal consultation meetings with Tribal leaders to receive input and feedback on the criteria for FDPIR Tribes to participate in the demonstration project. This feedback was incorporated into the criteria for the first solicitation of proposals for the demonstration project, which was published on January 14, 2021, at 86 FR 3112. Proposals were due on March 15, 2021. In total, FNS received seven proposals from eight Tribal organizations in response to the solicitation.

In October 2021, FNS awarded $3.5 million in self-determination contracts to all eight Tribal Organizations that submitted proposals. These organizations began implementation of self-determination contracting projects in FY 2022, with contracts expected to distribute selected foods for periods between six months and three years. In June 2022, FNS awarded another $2.2 million to six of the eight Tribal Organizations, for modifications and extensions to their self-determination contracts. These modifications, requested by the participating Tribal Organizations, increased the number of months that Tribal Organizations would distribute food through their previously awarded contracts, and brought all participating Tribal Organizations closer to a uniform number of distribution months.

The period of performance for round one self-determination contracts is ongoing and scheduled to conclude on September 30, 2024. Selected round one Tribal Organizations span several FNS regions and are testing the self-determination contracting model across FDPIR program size and with a variety of different foods.

III. Available Funding

Section 4003(b)(6)(B) of the 2018 Farm Bill states that only funds appropriated to the Secretary of Agriculture in advance to carry out section 4003(b) may be used to carry out this demonstration project. To date, FNS has received $9.0 million to support the demonstration project: $3 million was provided through the Further Consolidated Appropriations Act of 2020 (Pub. L. 116-94); $3 million was provided through the Consolidated Appropriations Act of 2021 (Pub. L. 116-260); and $3 million was provided through the FY 2022 Consolidated Appropriations Act (Pub. L. 117-103).

At the time the first solicitation of proposals for the demonstration project was published on January 14, 2021, at 86 FR 3112, Congress had appropriated $3 million in the FY 2020 full-year appropriations bill to carry out the demonstration project; and as per the statutory provision in section 4003(b)(6)(B) of the 2018 Farm Bill, the appropriated amount had to cover all costs associated with the demonstration project, including food procurement costs and contract support costs of any awarded self-determination contracts. To ensure that more than one Tribal Organization was able to participate, FNS limited initial individual proposals to participate in the first round of the demonstration project to no more than $1.5 million each.

Shortly after publication of 86 FR 3112, FNS received the additional $3.0 million for the demonstration project that was appropriated by Congress in the FY 2021 full-year appropriations bill, bringing total available funds for the demonstration project to $6.0 million. Using those funds, FNS awarded $3.5 million for seven round one self-determination contract proposals received in response to 86 FR 3112, in FY 2021; and awarded another $2.2 million in extensions and modifications to round one self-determination contract holders, in FY 2022. The extensions and modifications to the round one contracts aligned with the anticipated requirements outlined in this notice for new contracts. FNS also transferred $250,000 of the $6 million to the Department of the Interior, Bureau of Indian Affairs (BIA), which awarded the round one self-determination contracts and modifications and extensions on behalf of FNS.

In FY 2022, FNS received an additional $3 million to continue to support and/or expand the demonstration project. In consultation with Tribal leadership, FNS will use this amount to solicit new proposals to participate in the demonstration project and award self-determination contracts to eligible Tribal Organizations that are not currently participating.

Based on the availability of funds at the time of this notice, FNS will continue to limit initial individual proposals to participate in the second round of the demonstration project to no more than $1.5 million each. Should additional funding be appropriated by Congress for this demonstration project, FNS reserves the right to use this solicitation to select additional proposals or to modify or extend an existing contract awarded under the demonstration project.

IV. Eligibility and Criteria for Round Two Participation

In this second solicitation of proposals, FNS has made minor changes to the eligibility rules and criteria for participation in the demonstration project. These changes are a result of lessons learned from the first solicitation of proposals, feedback from current participants in the demonstration project, and comments from Tribal leaders received during Tribal consultation meetings. In FY 2022, FNS engaged in three Tribal consultation meetings with Tribal leaders to receive input and feedback on the demonstration at large and specifically on changes to criteria for FDPIR Tribes to participate in the demonstration project. The consultation meetings were held on December 7, 2021, March 29-30, 2022, and August 2, 2022. Tribal leaders' feedback has been incorporated into the criteria outlined below to the greatest extent possible.

In order to participate in the demonstration project, Tribal Organizations must meet the following criteria and requirements listed below and submit a complete proposal by the published due date. A proposal template is provided as part of this notice in section VI. The template is not mandatory; a proposal will be accepted for review as long as it meets all the applicable criteria in this notice.

A. Eligibility of Tribal Organization

1. Tribal Organization must administer FDPIR at the time a proposal is due, either under a direct agreement with FNS or under an agreement with a State agency. The self-determination contract will be between FNS and the Tribal Organization.

2. Tribal Organization must not already be participating in the FDPIR self-determination demonstration project.

3. Prior to contract negotiations, a Tribal Resolution from the Tribal Council authorizing the Tribal Organization to participate in this demonstration project must be submitted with the proposal. Tribal Organizations are encouraged to submit a Tribal Resolution with their proposals. However, if the Tribal Resolution is unavailable at the time the proposal is due, a Tribal Organization may alternatively submit a statement affirming that a Tribal Resolution with this authorization has been requested of the Tribal Council and provide the date the Tribal Resolution is expected to be received in their proposal. Tribal Resolutions must be received no later than 30 days after notification of being selected or the proposal will be disqualified and will not be selected for funding.

4. Tribal Organization's FDPIR program director must attest their support for the demonstration project and attest that the FDPIR program is currently being administered successfully. Tribal Organization must submit with their proposal a signed self-attestation from its FDPIR program director that covers the following areas to be verified by FNS:

FDPIR program director is supportive of participating in the demonstration project for the entire length of proposal and contract award period.

Tribal Organization has a current Plan of Operation on file with FNS or with the State agency, if applicable, that meets the regulatory requirements of 7 CFR part 253;

Tribal Organization is in compliance with regulatory inventory storage and inventory management requirements at 7 CFR 250.12; and

Tribal Organization has no outstanding financial or inventory related FNS management evaluation findings. If any related management evaluation findings are currently open, FDPIR program director should provide a description and disposition for each in the signed letter.

5. Tribal Organization must provide a budget proposal and narrative with all associated costs that are reasonable, necessary, and allocable to carry out proposed contract activities. The budget proposal, including all contract support costs (CSC), may not exceed $1.5 million.

Tribal Organizations may account for food cost fluctuations by including in their budget proposals inflationary factors for planned food purchases. To assist Tribal Organizations with estimating food cost inflation, FNS has provided suggested inflationary amounts below. These amounts are calculated by the Office of Management and Budget (OMB) based on the Consumer Price Index for food, and are similar to those used by FNS for planned food purchases. Of note, these estimates are based on a Federal fiscal year (October 1 through September 30):

Budget year | FY 2024 (%) | FY 2025 (%) | FY 2026 (%)
Inflationary Percentage for Food Purchases | 3.75 | 2.42 | 2.26

For example, in preparing a proposal to participate in the demonstration project, a Tribal Organization may receive a quote from a vendor that reflects the cost to purchase six months of tomatoes in FY 2023 (e.g., $5,000 for six months, or $833.33 per month). If the Tribal Organization is proposing to provide six months of tomatoes within each of FYs 2024, 2025, and 2026, the Tribal Organization may adjust the quote in the submitted budget to reflect the above inflationary percentages. This means that the submitted budget would reflect a cost of $5,187.50 for purchasing six months of tomatoes in FY 2024 ($5,000 × 1.0375), a cost of $5,313.04 for purchasing six months of tomatoes in FY 2025 ($5,187.5 × 1.0242), and a cost of $5,433.11 for purchasing six months of tomatoes in FY 2026 ($5,313.04 × 1.0226). If any purchases were planned to take place in FY 2023, the original quoted price of $5,000 for six months, or $833.33 per month, would be utilized because the quoted price should reflect FY 2023 inflationary costs.

B. Agricultural Commodity Criteria

In addition to the information and documentation required under IV.A. of this notice, a Tribal Organization must also provide the following information in its proposal:

1. Identification of the current FDPIR food(s) the Tribal Organization intends to supplant (i.e., replace) in the food package. All foods currently offered by USDA for the FDPIR program, including foods offered intermittently (e.g., traditional foods, bonus foods), are eligible to be supplanted if proposed by the Tribal Organization.

Tribal Organizations that choose to supplant a USDA bonus food (e.g., catfish, wild rice, ham, etc.) will not receive a fair-share allocation of the USDA bonus food in each Federal fiscal year their Tribally-procured food is offered.

2. A description of the food(s) proposed for purchase and inclusion in the Tribal Organization's FDPIR program. In its description, Tribal Organization must provide the following:

A description of the nutritional value of the proposed food(s), and an explanation of how the proposed food(s) is of similar or higher nutritional value and similar portion size as the food(s) being supplanted. Alternately, Tribal Organizations may describe how the proposed food(s) is nutritionally similar, or of similar portion size, as other items in the FDPIR food package category it is replacing. The proposed food(s) does not need to provide the same specific nutrient profile as the food it is replacing, nor the specific portion size as the food it is replacing. It is not necessary to provide a direct comparison to the specific food being supplanted.

○ For example: If a Tribal Organization proposes to supplant frozen blueberries in the FDPIR food package fruit category with a berry traditional to its culture, the Tribal Organization may explain how the traditional berry is nutritionally similar to other fruits currently offered in the fruit category, and explain how the traditional berry will be offered in household-sized cartons that would provide participants with a similar amount of fruit as other offerings in the fruit category. A comparison of the specific nutrients and portion size of the frozen blueberries versus the traditional berries is not required.

○ For FDPIR food package categories, please reference FNS Handbook 501, Exhibit O: Food Distribution Program on Indian Reservations Monthly Distribution Guide Rates by Household Size (Distribution Rates).

The estimated number of months that each proposed food(s) will be distributed to Tribal Organization's existing FDPIR caseload. A minimum of twelve (12) unique months of food distribution across all offered foods is required (consecutive or non-consecutive). This means that—to meet the minimum requirement—a Tribal Organization could propose to distribute one food for 12 months, or could propose to rotate distribution of a number of foods for a total of 12 unique months (e.g., distribute one food for 6 months and a different food for another 6 non-overlapping months).

○ This requirement represents an increase in the required minimum months of distribution, from 6 months in round one, to 12 months in round two. This change has been made to standardize self-determination contracts awarded under the demonstration project, to better measure and compare the results of individual contracts, and to minimize contract extension paperwork. FNS determined that 12 months of distribution of one food is achievable for most FDPIR Tribal Organizations under the initial $1.5 million contract limitation. Of all 105 Tribal Organizations participating in the program at time of publication of this notice, 7 FDPIR programs have an average monthly caseload of 1,000 participants or more. If a Tribal Organization is unable to achieve 12 unique months of distribution due to a large caseload and the $1.5 million limitation, FNS will accept proposals to distribute proposed food(s) for less than 12 unique months. In such cases, Tribal Organizations should clearly state the number of distribution months they are able to achieve with the $1.5 million funding limit.

○ For each proposed food(s), FNS also encourages a minimum of at least three consecutive months of distribution for individual foods, but will consider proposals for distribution of individual foods for less than three months as long as the minimum requirement for 12 unique months of distribution is met.

○ FNS encourages Tribal Organizations to submit proposals that exceed the minimum requirement of 12 unique months of distribution for all foods, and suggested minimum distribution of at least three consecutive months for individual foods, if at all possible.

An estimated timeline for distributing proposed food(s) within a 36-month contract period of performance. All self-determination contracts awarded under this solicitation will be structured with a period of performance of 36 months with the possibility of early completion or extension. The estimated period of performance for round two contracts is June 2023 through May 2026. The estimated period of performance is subject to change. A final timeline will be mutually agreed upon by the Tribal Organization and FNS and will be based upon the final period of performance and the date on which final proposed food(s) information from executed vendor contracts is received by FNS from Tribal Organization, for input into food reporting and inventory systems. The submitted timeline should take into account the depletion of inventory of supplanted USDA food(s) prior to distribution of proposed food(s) and planned distributions of proposed food(s) should not begin earlier than June 1, 2023, even though contracts may be awarded prior to that date.

A description of Tribal Organization's capacity to obtain the proposed food(s) in a quantity that meets estimated participant demand. In its description, the Tribal Organization must confirm proposed food(s) will be offered to all participants served by its program. Alternatively, a Tribal Organization may submit documentation of capacity, such as a quote for purchasing the proposed foods from the vendor(s) that the Tribal Organization proposes to work with to purchase the proposed food(s), in a quantity that would meet participant demand.

3. Letter(s) of Support from vendor(s) which will supply the food(s). Letter(s) should certify that vendor(s) sells food(s) commercially and offers food(s) that is a product grown, processed, and otherwise prepared for sale or distribution in the United States. For purposes of the demonstration project, “commercially available” means that the food(s) is presently being sold through commercial channels to the public by the vendor(s) from which the Tribal Organization is proposing to procure the food(s).

V. Review, Selection and Evaluation

A. Review and Selection Process

Funding, under this solicitation, will be provided via self-determination contracts, as defined by Section 4 of the ISDEAA, to at least two Tribal Organizations that meet the eligibility criteria established under section IV. above. As part of the selection process, FNS will pre-screen and review all proposals to ensure they contain the required documents and information. Upon receiving a proposal, FNS will determine whether the proposal is complete within 7 calendar days. If a proposal is received before the deadline but is determined to be incomplete, the applicant will be notified and given the opportunity to submit missing items within 7 calendar days of being notified. If there are less than 7 calendar days from the date of notification and the deadline or the notification occurs after the deadline has passed, the applicant will still be given 7 calendar days to submit the missing items, but this is only available to proposals that were initially received before the deadline. Any initial proposals, whether complete or incomplete, received after the deadline will not be considered.

Timely, complete proposals will be given to the FNS review panel to be evaluated and scored against the ranking criteria. Proposals will be evaluated using the four ranking criteria listed below, under section V.B. Evaluation Criteria, with a maximum achievable total of 100 points. The FNS review panel may ask applicants for additional clarification prior to final selection.

Final award selections will be approved by the FNS Administrator. Tribal Organizations not selected for award will be notified in writing. FNS reserves the right to use this solicitation to select additional proposals or extend an existing contract already awarded under the demonstration project should additional funds be made available through future appropriations.

B. Evaluation Criteria

The following selection criteria will be used to evaluate proposals for this demonstration project. FNS reserves the right to select proposals to meet geographical representation or project diversity notwithstanding the points awarded to each proposal. To the extent possible, FNS will ensure that the selected proposals, when considered as a group, test a range of geographic location, program size, and diversity in food selection. Tribal leaders, during consultation, also requested FNS consider selecting proposals that test a range of programs as much as possible.

Program Administration: 10 points. A proposal will be evaluated under this criterion for applicant's effectiveness in successfully administering FDPIR. Evaluation will be based on the factors listed under section IV.A. 1-5 of this notice.

Project Viability: 30 points. A proposal will be evaluated on its strength in demonstrating Tribal Organization capacity to purchase agricultural commodities for the FDPIR program. The panel will evaluate the project viability by examining: (1) the applicant's ability to obtain the proposed food(s) in a quantity that meets estimated participant demand; (2) the applicant's ability to obtain the proposed food(s) for a minimum twelve unique distribution months (consecutive or non-consecutive); and (3) the vendor letter(s) of support included with proposal.

Agricultural Commodity Description: 30 points. A proposal will be evaluated under this criterion for the agricultural commodity it proposes to introduce to the FDPIR program and the degree to which the proposed food meets project requirements, including that: (1) the proposed food(s) is a product grown, processed, and otherwise prepared for sale or distribution in the United States; and (2) the proposed food(s) is of similar or higher nutritional value and of similar portion size than the food(s) being supplanted.

Budget: 30 points. A proposal will be evaluated under this criterion for the degree to which its proposed budget is reasonable, necessary, and allocable to costs associated with this demonstration project during the period of performance. The budget narrative should correspond with the proposed line-item budget and must justify and support the bona fide needs of the budget's line-item costs. Proposal budgets must not exceed $1.5 million, including contract support costs.

VI. Proposal Template

The following proposal template is provided for the convenience of applicants. The use of this template is recommended but not mandatory. A proposal will be accepted for review as long as it meets all the applicable criteria in this notice. Email completed proposals to FDPIR-RC@usda.gov with subject line “FDPIR Demonstration Project”. Proposals will be accepted until 11:59 p.m. ET on January 31, 2023.

Template Proposal To Participate in FDPIR Self-Determination Demonstration Project

Please provide the following information:

1. Full name, address, and telephone number of Tribal Organization proposing to contract.

2. Full name, address, telephone number, and email of Tribal Organization's main point of contact for this proposal.

3. Signed self-attestation from FDPIR program director attesting their support for participation in the demonstration project and that FDPIR program is currently being administered successfully. The self-attestation must cover the following areas:

FDPIR program director is supportive of participating in the demonstration project for the entire length of its proposal.

Tribal Organization has a current Plan of Operation on file with FNS or with the State agency, if applicable, that meets the regulatory requirements of 7 CFR part 253;

Tribal Organization is in compliance with regulatory inventory storage and inventory management requirements at 7 CFR 250.12; and

Tribal Organization has no outstanding financial or inventory related FNS management evaluation findings. If any related management evaluation findings are currently open, FDPIR program director should provide a description and disposition for each in the signed letter.

4. A Tribal Resolution(s) from the Tribal Council authorizing the Tribal Organization to participate in this demonstration project or a statement affirming that a Tribal Resolution(s) with this authorization has been requested of the Tribal Council and will be submitted prior to contract negotiations and within 30 days, if selected.

5. List of food(s) from the current FDPIR food package the Tribal Organization intends to supplant (i.e., replace), and the corresponding food(s) proposed to be purchased to replace that food(s) in the FDPIR program by Tribal Organization. The total number of months that the proposed food(s) will be distributed to FDPIR participants should also be indicated. Please note that a minimum of 12 unique months of food distribution is required across all proposed foods (consecutive or non-consecutive) in most cases.

Proposed food | USDA supplanted food | Total number of distribution months for proposed food, over 36 month period of performance | Summary timeline of distribution of proposed food, over 36 month period of performance
E.g.—Fresh cabbage | E.g.—Lettuce | E.g. —18 months | E.g.—1 month in FY 2023, 6 months in each of FY 2024 and 2025, and 5 months in 2026.
E.g.—Fresh collard greens | E.g.—Lettuce | E.g. —15 months | E.g.—3 months in FY 2023, 6 months each in FY 2024 and 2025, and 3 months in FY 2026.
E.g.—Bison | E.g.—Bison | E.g.—6 months | E.g.—3 months in each of FY 2024, 2025 and 2026.

6. A timeline for distribution of each of the proposed food(s), with a minimum of 12 unique months of food distribution across all proposed foods (consecutive or non-consecutive) incorporated. The timeline for all food distributions should occur during the estimated period of performance (June 2023—May 2026) and should take into account the depletion of inventory of supplanted food on hand. Planned food distributions should begin no earlier than June 1, 2023. If your Tribal Organization is selected to participate in the demonstration project, you will be able to make any changes necessary to this timeline before and after award.

| Foods offered and (supplanted) in FY 2023 | Foods offered and (supplanted) in FY 2024 | Foods offered and (supplanted) in FY 2025 | Foods offered and (supplanted) in FY 2026
October |  | E.g.—Cabbage (lettuce) | E.g.—Cabbage (lettuce) | E.g.—Cabbage (lettuce).
November |  | E.g.—Cabbage (lettuce) | E.g.—Cabbage (lettuce) | E.g.—Cabbage (lettuce).
December |  | E.g.—Cabbage (lettuce); Bison (bison) | E.g.—Cabbage (lettuce); Bison (bison) | E.g.—Cabbage (lettuce); Bison (bison).
January |  | E.g.—Cabbage (lettuce); Bison (bison) | E.g.—Cabbage (lettuce); Bison (bison) | E.g.—Cabbage (lettuce); Bison (bison).
February |  | E.g.—Cabbage (lettuce); Bison (bison) | E.g.—Cabbage (lettuce); Bison (bison) | E.g.—Cabbage (lettuce); Bison (bison).
March |  | E.g.—Collard greens (lettuce) | E.g.—Collard greens (lettuce) | E.g.—Collard greens (lettuce).
April |  | E.g.—Collard greens (lettuce) | E.g.—Collard greens (lettuce) | E.g.—Collard greens (lettuce).
May |  | E.g.—Collard greens (lettuce) | E.g.—Collard greens (lettuce) | E.g.—Collard greens (lettuce).
June | E.g.—Collard greens (lettuce) | E.g.—Collard greens (lettuce) | E.g.—Collard greens (lettuce) |
July | E.g.—Collard greens (lettuce) | E.g.—Collard greens (lettuce) | E.g.—Collard greens (lettuce) |
August | E.g.—Collard greens (lettuce) | E.g.—Collard greens (lettuce) | E.g.—Collard greens (lettuce) |
September | E.g.—Cabbage (lettuce) | E.g.—Cabbage (lettuce) | E.g.—Cabbage (lettuce) |

7. A description of the nutritional value of the proposed food(s) and explanation of how the proposed food(s) is of similar or higher nutritional value and similar portion size as the food(s) being supplanted. Alternately, Tribal Organizations may describe how the proposed food(s) is nutritionally similar, and of similar portion size, as other items in the FDPIR food package category of the food it is replacing rather than drawing a direct nutritional comparison to the specific food being supplanted.

For example: If a Tribal Organization proposes to supplant frozen blueberries in the FDPIR food package fruit category (Exhibit O) with a berry traditional to its culture, the Tribal Organization may explain how the traditional berry is nutritionally similar to other fruits currently offered in the fruit category, and how the traditional berry will provide FDPIR participants with similar amounts of fruit as other fruit offerings in the fruit category. A comparison of the specific nutrients and portion size of the frozen blueberries vs. the traditional berries is not required.

8. A description of Tribal Organization's capacity to obtain the proposed food(s) in a quantity that meets estimated participant demand. In the description, Tribal Organization must confirm proposed food(s) will be offered to all FDPIR participants served by its program. In lieu of a description, a Tribal Organization may submit documentation of capacity, such as a quote for purchasing the proposed foods from the vendor(s) that the Tribal Organization proposes to work with to purchase the proposed food(s), in a quantity that would meet participant demand.

9. Letter(s) of Support from vendor(s) which will supply the food(s). Letter(s) should certify that vendor(s):

Sells proposed food(s) commercially (i.e., presently sells the proposed food(s) to the public through commercial channels); and

Offers food(s) that is a product grown, processed, and otherwise prepared for sale or distribution in the United States.

10. A proposed budget and narrative of estimated costs to carry out the proposed contract activities. All costs must be reasonable, necessary, and allocable to the contract. Budget proposal, including all contract support costs, may not exceed $1.5 million. The proposed budget must include the following:

a. The total amount of funds requested.

b. A breakout of the amount of funds requested by the following categories:

Food purchases

Personnel

Equipment

Materials and supplies

Travel

Other allowable costs such as contract support costs.

c. A budget narrative that describes all major line-item expenditures that are proposed, including inflationary percentages.

Cynthia Long,
Administrator, Food and Nutrition Service.

[FR Doc. 2022-22570 Filed 10-17-22; 8:45 am]

BILLING CODE 3410-30-P